INTERNATIONAL TRADE COMMISSION

[Investigation Nos. 701-TA-459 and 731-TA-1155 (Final)]

Commodity Matchbooks From India

Determinations

On the basis of the record¹ developed in the subject investigations, the United States International Trade Commission (Commission) determines, pursuant to section 735(b) of the Tariff Act of 1930 (19 U.S.C. 1673d(b)) (the Act), that an industry in the United States is materially injured by reason of imports from India of commodity matchbooks, provided for in subheading 3605.00.00 of the Harmonized Tariff Schedule of the United States, that have been found by the Department of Commerce (Commerce) to be subsidized by the Government of India and to be sold in the United States at less than fair value (LTFV).

¹ The record is defined in sec. 207.2(f) of the Commission's Rules of Practice and Procedure (19 CFR § 207.2(f)).

Background

The Commission instituted these investigations effective October 29, 2008, following receipt of a petition filed with the Commission and Commerce by D.D. Bean & Sons, Co., Jaffrey, NH. The final phase of the investigations was scheduled by the Commission following notification of preliminary determinations by Commerce that imports of commodity matchbooks from India were being subsidized within the meaning of section 703(b) of the Act (19 U.S.C. 1671b(b)) and that imports of commodity matchbooks from India were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of July 17, 2009 (74 FR 34783). The hearing was held in Washington, DC, on October 20, 2009, and all persons who requested the opportunity were permitted to appear in person or by counsel.

The Commission transmitted its determinations in these investigations to the Secretary of Commerce on December 4, 2009. The views of the Commission are contained in USITC Publication 4117 (December 2009), entitled Commodity Matchbooks from India: Investigation Nos. 701-TA-459 and 731-TA-1155 (Final).

By order of the Commission.
Issued: December 4, 2009.
Marilyn R. Abbott,
Secretary to the Commission.

[FR Doc. E9-29404 Filed 12-9-09; 8:45 am]

BILLING CODE 7020-02-P